DEPARTMENT OF TRANSPORTATION

Federal Aviation Administration

Proposed Technical Standard Order (TSO)-C166a, Extended Squitter Automatic Dependent Surveillance—Broadcast (ADS-B) and Traffic Information Service—Broadcast (TIS-B) Equipment

AGENCY: Federal Aviation Administration, DOT.

ACTION: Notice of availability and requests for public comment.

SUMMARY: This notice announces the availability of, and requests comments on the proposed revision to technical standard order (TSO)-C166, Extended Squitter Automatic Dependent Surveillance—Broadcast (ADS-B) and Traffic Information Service—Broadcast (TIS-B) Equipment Operating on the Radio Frequency of 1090 Megahertz (MHz), issued September 20, 2004. The resulting changes to this proposed revised TSO tells persons seeking a TSO authorization or letter of design approval (LODA) what minimum performance standards (MPS) their extended squitter ADS-B and TIS-B equipment must meet to be identified with the applicable TSO marking.

DATES: Comments must be received on or before January 27, 2006.

ADDRESSES: Send all comments on the proposed technical standard order to: Federal Aviation Administration (FAA), Aircraft Certification Service, Aircraft Engineering Division, Avionic Systems Branch (AIR-130), 800 Independence Avenue, SW., Washington, DC 20591. ATTN: Mr. Robert H. Duffer. Or you may deliver comments to: Federal Aviation Administration, Room 815, 800 Independence Avenue, SW., Washington, DC 20591.

FOR FURTHER INFORMATION CONTACT: Mr. Robert H. Duffer, AIR-130, Federal Aviation Administration, 800 Independence Avenue, SW., Washington, DC 20591, Telephone (425) 227-2722, Fax (425) 227-1181.

SUPPLEMENTARY INFORMATION:

Comments Invited

You are invited to comment on the proposed revised TSO by submitting written data, views, or arguments to the above address. Comments received may be examined, both before and after the closing date, in Room 815, at the above address, weekdays except Federal holidays, between 8:30 a.m. and 4:30 p.m. The Director, Aircraft Certification Service, will consider all comments received or or before the closing date before issuing the final TSO.

Background

The proposed revised TSO removes all references to RTCA document RTCA/DO-260, Minimum Operational Performance Standards for 1090 MHz Extended Squitter Automatic Dependent Surveillance—Broadcast (ADS-B), dated September 13, 2000, to include applicable changes listed in Appendix 1, Section 1 of TSO-C166. This change is being implemented to keep pace with plans to use ADS-B for air traffic control (ATC) services in the National Airspace System (NAS) that will require advanced position integrity parameters (i.e., NIC, NAC and SIL) not addressed in RTCA/DO-260. The proposed revised TSO now refers only to RTCA/DO-260A, Minimum Operational Performance Standards for 1090 MHz Extended Squitter Automatic Dependent Surveillance—Broadcast (ADS-B), dated April 10, 2003, as modified by Appendix 1 (previously Appendix 1, Section 2 of TSO-C166). In addition, Appendix 1 of the proposed revised TSO includes test procedures and provisions necessary for 1090 MHz extended squitter receivers to correctly handle ADS-B rebroadcast provided by ground stations.

How To Obtain Copies

A copy of the proposed revised TSO-C166 may be obtained via the information contained in section title FOR FURTHER INFORMATION CONTACT, or from the FAA Internet Web site at http://www.faa.gov/aircraft/draft_docs/. Copies of all RTCA documents may be purchased from RTCA, Inc., 1828 L Street, NW., Suite 815, Washington, DC 20036. Copies may also be obtained through the RTCA Internet Web site at http://www.rtca.org/.

Issued in Washington, DC, on December 20, 2005.
Susan J.M. Cabler,
Assistant Manager, Aircraft Engineering Division, Aircraft Certification Service.

[FR Doc. 05-24502 Filed 12-27-05; 8:45 am]

BILLING CODE 4910-13-M